DEPARTMENT OF THE TREASURY

Office of the Comptroller of the Currency

[Docket ID OCC-2015-0002]

Mutual Savings Association Advisory Committee

AGENCY: Office of the Comptroller of the Currency, Department of the Treasury.

ACTION: Notice of Federal Advisory Committee Meeting.

SUMMARY: The Office of the Comptroller of the Currency (OCC) announces a meeting of the Mutual Savings Association Advisory Committee (MSAAC).

DATES: A public meeting of the MSAAC will be held on Tuesday, April 28, 2015, beginning at 8:00 a.m. Eastern Daylight Time (EDT). Members of the public may submit written statements to the MSAAC. The OCC must receive written statements no later than Thursday, April 23, 2015. Members of the public who plan to attend the meeting, and members of the public who may require auxiliary aids, should contact the OCC by 5:00 p.m. EDT on Thursday, April 23, 2015, to inform the OCC of their interest in attending the meeting and to provide the information that will be required to facilitate aid.

ADDRESSES: The OCC will hold the April 28, 2015 meeting of the MSAAC at the OCC's offices at 400 7th Street SW., Washington, DC 20219. Members of the public may submit written statements to MSAAC@occ.treas.gov or by mailing them to Donna Deale, Designated Federal Officer, Office of the Comptroller of the Currency, 400 7th Street SW., Washington, DC 20219.

FOR FURTHER INFORMATION CONTACT: Donna Deale, Deputy Comptroller for Thrift Supervision, (202) 649-5420, Office of the Comptroller of the Currency, Washington, DC 20219.

SUPPLEMENTARY INFORMATION: By this notice, the OCC is announcing that the MSAAC will convene a meeting on Tuesday, April 28, 2015, at the OCC's offices at 400 7th Street SW., Washington, DC 20219. The meeting is open to the public and will begin at 8:00 a.m. EDT. The purpose of the meeting is for the MSAAC to advise the OCC on the regulatory changes or other steps the OCC may be able to take to ensure the continued health and viability of mutual savings associations and other issues of concern to existing mutual savings associations. The agenda includes a discussion of current topics of interest to the industry, including an update from OCC staff on current portfolio statistics, financial metrics and supervisory data on federal mutual savings associations.

Members of the public who plan to attend the meeting should contact the OCC by 5:00 p.m. EDT on Thursday, April 23, 2015, to inform the OCC of their desire to attend the meeting and to provide information that will be required to facilitate entry into the meeting. Members of the public may contact the OCC via email at MSAAC@OCC.treas.gov or by telephone at (202) 649-5420. Attendees should provide their full name, email address, and organization, if any. For security reasons, attendees will be subject to security screening procedures and must present a valid government issued identification to enter the building. Members of the public who are deaf or hard of hearing should call (202) 649-5597 (TTY) by 5:00 p.m. EDT Thursday, April 23, 2015, to arrange auxiliary aids such as sign language interpretation for this meeting.

Dated: April 8, 2015.
Thomas J. Curry,
Comptroller of the Currency.

[FR Doc. 2015-08404 Filed 4-10-15; 8:45 am]

BILLING CODE 4810-33-P